DEPARTMENT OF HEALTH AND HUMAN SERVICES

Centers for Disease Control and Prevention

[Docket No. CDC-2019-0012]

The National Healthcare Safety Network's Proposed Requirement for Submission of Billing Codes as Part of Surgical Site Infection (SSI) Event Reporting; Request for Information

AGENCY: Centers for Disease Control and Prevention (CDC), Department of Health and Human Services (HHS).

ACTION: Request for information (RFI).

SUMMARY: The Centers for Disease Control and Prevention, in the Department of Health and Human Services, announces the opening of a docket to obtain information regarding the proposed requirement for reporting of International Classification of Diseases, 10th Revision, Procedural Classification System (ICD-10-PCS) or Current Procedures Terminology (CPT) Codes (collectively, Billing Codes) when reporting data to the National Healthcare Safety Network's (NHSN) Surgical Site Infection (SSI) Module of the Patient Safety Component. CDC is opening this docket to provide the opportunity to identify challenges for facilities to include ICD-10-PCS or CPT Codes when reporting SSI data to the NHSN, which is proposed to begin in 2021.

DATES: Written comments must be received on or before May 31, 2019.

ADDRESSES: You may submit comments, identified by Docket No. CDC-2019-0012, by any of the following methods:

• Federal eRulemaking Portal http://www.regulations.gov. Follow the instructions for submitting comments.

• Mail: Katherine Allen-Bridson, National Center for Emerging and Infectious Zoonotic Disease, Centers for Disease Control and Prevention, 1600 Clifton Road NE, Mail Stop H16-3, Atlanta 30329.

Instructions: All submissions received must include the agency name and Docket Number. All relevant comments received will be posted without change to http://www.regulations.gov, including any personal information provided. For access to the docket to read background documents or comments received, go to http://www.regulations.gov.

FOR FURTHER INFORMATION CONTACT: Katherine Allen-Bridson, RN, BSN, MScPH, CIC, National Center for Emerging and Infectious Zoonotic Disease, Centers for Disease Control and Prevention, 1600 Clifton Road NE, Mail Stop H16-3, Atlanta, GA 30329. Phone: 404-639-4000; Email: nhsn@cdc.gov.

SUPPLEMENTARY INFORMATION:

Purpose of the Notice: The purpose of the notice is to request input and information from individuals and organizations on a proposed requirement that all procedure and event data submitted as part of the National Healthcare Safety Network's (NHSN) Surgical Site Infection (SSI) Surveillance Module include ICD-10-PCS or CPT codes. CDC will carefully consider all comments with an intent to determine the feasibility and appropriateness of the proposal.

Scope of Issue: The mission of the CDC's Division of Healthcare Quality Promotion (DHQP) is to protect patients and healthcare personnel and promote safety, quality, and value in national and international healthcare delivery systems. In accordance with this mission, DHQP seeks to identify effective prevention methods, foster their implementation, and measure their impact on the incidence of healthcare-associated infections (HAIs). Over 21,000 healthcare facilities report data on HAIs to CDC's NHSN, including data that CDC in turn reports to the Centers for Medicare and Medicaid Services (CMS) on behalf of healthcare facilities. CMS uses the data in its public reporting and payment programs.

Approach: CDC seeks information from NHSN users and stakeholders regarding SSI data reporting. Currently, reporting of ICD-10-PCS or CPT codes in the SSI surgical procedure data is optional. Facilities are not currently required to report the Billing Codes to NHSN. If they do not, facilities must instead determine the appropriate NHSN Operative Procedure Category, based on ICD-10-PCS or CPT code the facility has assigned for the procedure, and report that category to NHSN. Reporting ICD-10-PCS and CPT codes rather than only the NHSH Operative Procedure Category provides more detail about the procedure performed. Having Billing Codes that describe specific surgical procedures, rather than simply surgical procedure categories that include a number of Billing Codes, would allow CDC and other NHSN-data users to identify procedures with higher risks of SSI and group like-risk procedures for data comparison across facilities and facility locations.

Potential Areas of Focus: The CDC seeks information from NHSN users and stakeholders regarding specific considerations related to this proposal including but not limited to:

1. What, if any, challenges/barriers would the proposed Billing Code reporting requirements for NHSN SSI reporting pose for your facility? How could these challenges/barriers be minimized?

2. Would your facility be able to report the necessary Billing Code data within 4.5 months of the end of the quarter in which the procedure occurred, as is required for participation in the Centers for Medicaid and Medicare Service's Inpatient Quality Reporting Program? If no, why not, and what is the shortest amount of time following the end of the quarter that the complete data would be available?

3. If your facility is currently reporting Billing Codes to NHSN as part of SSI reporting, what lessons were learned in setting up the processes to enable such reporting?

Dated: April 9, 2019.
Sandra Cashman,
Executive Secretary, Centers for Disease Control and Prevention.

[FR Doc. 2019-07387 Filed 4-12-19; 8:45 am]

BILLING CODE 4163-18-P